DEPARTMENT OF COMMERCE

National Oceanic and Atmospheric Administration

RIN 0648-XA222

Gulf Spill Restoration Planning; Meeting Location Correction for Public Scoping Meetings for the Programmatic Environmental Impact Statement for the Deepwater Horizon Oil Spill; Correction

AGENCY: National Marine Fisheries Service (NMFS), National Oceanic and Atmospheric Administration (NOAA), U.S. Department of Commerce.

ACTION: Notice of public scoping meetings; correction.

SUMMARY: In a March 2, 2011, Federal Register notice, the National Oceanic and Atmospheric Administration (NOAA), National Marine Fisheries Service (NMFS) announced the public scoping meeting dates, times, and locations for the Programmatic Environmental Impact Statement for the Deepwater Horizon Oil Spill. There have been location changes for the meeting in Pensacola, FL, Spanish Fort, AL, Houma, LA, and Morgan City, LA. No other information in the notice published on March 2, 2011 has changed.

DATES: The public scoping meetings in Pensacola, FL and Mobile, AL will begin at 7:30 p.m. (local time) and doors will open at 6:30 p.m. The public meetings in Houma, LA and Morgan City, LA will start at 6:30 p.m. (local time) and open doors at 5:30 p.m.

FOR FURTHER INFORMATION CONTACT: NOAA—Brian Hostetter at 888.547.0174 or by e-mail at gulfspillcomments@noaa.gov;

DOI—Robin Renn by e-mail at Robin_Renn@fws.gov;

AL— Will Gunter by e-mail at William.Gunter@dcnr.alabama.gov;

FL—Lee Edminston or Gil McRae by e-mail at Lee.Edmiston@dep.state.fl.us or Gil.McRae@myfwc.com;

LA—Karolien Debusschere by e-mail at karolien.debusschere@la.gov;

MS—Richard Harrell by e-mail at Richard_Harrell@deq.state.ms.us;

TX—Don Pitts by e-mail at Don.Pitts@tpwd.state.tx.us.

To be added to the Oil Spill PEIS mailing list, please visit: http://www.gulfspillrestoration.noaa.gov.

Correction

The information in Federal Register notice 2011-4540, on page 11427, in the first column, under the heading Scoping Meetings, for meetings scheduled in 1. Pensacola, FL; 5. Spanish Fort, AL; 6. Houma, LA; and 8. Morgan City, LA is corrected to read as follows:

1. Wednesday, March 16, 2011: Bayview Community Center, 2001 Lloyd Street, Pensacola, FL.

5. Wednesday, March 23, 2011: The Battle House Renaissance Mobile Hotel and Spa, 26 North Royal Street, Mobile, AL.

6. Thursday, March 24, 2011: The Holiday Inn Houma, 1800 Martin Luther King Blvd., Houma, LA.

8. Tuesday, March 29, 2011: Bayou Vista Community Center, 1333 Belleview Street, Morgan City, LA.

Dated: March 4, 2011.
Patricia A. Montanio,
Director, Office of Habitat Conservation, National Marine Fisheries Service.

[FR Doc. 2011-5370 Filed 3-8-11; 8:45 am]

BILLING CODE 3510-22-P